DEPARTMENT OF THE INTERIOR

National Park Service

[NPS-WASO-NRNHL-DTS#-29477; PPWOCRADI0, PCU00RP14.R50000]

National Register of Historic Places; Notification of Pending Nominations and Related Actions

AGENCY: National Park Service, Interior.

ACTION: Notice.

SUMMARY: The National Park Service is soliciting comments on the significance of properties nominated before December 7, 2019, for listing or related actions in the National Register of Historic Places.

DATES: Comments should be submitted by January 10, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 7, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

HAWAII

Hawaii County

Awong Brothers Store, (Honoka'a Town, Hawaii MPS), 45-3600 Mamane St., Honoka'a, MP100004873

Honoka's Public Library, (Honoka'a Town, Hawaii MPS), 45-3380 Mamane St., Bldg. # 3, Honoka'a, MP100004874

MISSOURI

St. Louis Independent City

United Railways Spring Avenue Substation-Trouble Station, 2423 North Spring Ave., St. Louis, SG100004876

Standard Stamping Company Factory, 2000 North Broadway, St. Louis, SG100004877

OHIO

Montgomery County

Summit Street Young Women's Christian Association (YWCA), (Twentieth-Century African American Civil Rights Movement in Ohio), 236 South Paul Laurence Dunbar St., Dayton, MP100004870

Summit County

Camp Crowell Hilaka Historic District, 4374 Broadview Rd., Richfield, SG100004871

UTAH

Summit County

Park City Main Street Historic District (Boundary Increase II), Main St., Park City, BC100004881

Tooele County

Kirk Hotel, The, 57 West Vine St., Tooele, SG100004880

Washington County

Toquerville Hall, 212 North Toquerville Blvd., Toquerville, SG100004878

Weber County

Ogden Fire Station No. 2, 1585 25th St., Ogden, SG100004879

Additional documentation has been received for the following resource:

UTAH

Summit County

Park City Main Street Historic District (Additional Documentation), Main St., Park City, AD79002511

Nominations submitted by Federal Preservation Officers:

The State Historic Preservation Officer reviewed the following nominations and responded to the Federal Preservation Officer within 45 days of receipt of the nominations and supports listing the properties in the National Register of Historic Places.

CALIFORNIA

Ventura County

Burro Flats Site (Boundary Decrease), Address Restricted, Canoga Park vicinity, BC100004883

Burro Flats Site (Additional Documentation), Address Restricted, Canoga Park vicinity, AD76000539

Authority: Section 60.13 of 36 CFR part 60.

Dated: December 9, 2019.
Julie H. Ernstein,
Supervisory Archeologist, National Register of Historic Places/National Historic Landmarks Program.

[FR Doc. 2019-27742 Filed 12-23-19; 8:45 am]

BILLING CODE 4312-52-P